DEPARTMENT OF COMMERCE

Submission for OMB Review; Comment Request

The Department of Commerce has submitted to the Office for Management and Budget (OMB) for clearance the following proposal for collection of information under the provisions of the Paperwork Reduction Act of 1995, Public Law 104-13.

Bureau: International Trade Administration.

Title: Advocacy Questionnaire.

OMB Approval Number: 0625-0220.

Agency Form Number: ITA-4133P.

Type of Request: Regular submission.

Burden Hours: 205.

Number of Respondents: 200.

Average Hours per Response: 30 minutes.

Needs and Uses: The International Trade Administration's (ITA) Advocacy Center marshals federal resources to assist U.S. firms competing for foreign government procurements worldwide. The Advocacy Center works closely with the Trade Promotion Coordination Committee, which is chaired by the Secretary of Commerce and includes 19 federal agencies involved in export promotion.

Advocacy assistance is wide and varied, but most often is employed to assist U.S. commercial interests that must deal with foreign governments or government-owned corporations to win or maintain business transactions in foreign markets. The Advocacy Center is at the core of the President's National Export Strategy and its goal to ensure opportunities for American companies in the international marketplace.

The purpose of the Advocacy Questionnaire is to collect the information necessary to evaluate whether it would be appropriate to provide the U.S. Government (USG) advocacy assistance on a given transaction. The Advocacy Center, appropriate ITA officials, officers at U.S. Embassies/Consulates worldwide, and other federal government agencies that provide advocacy support (the Advocacy Network) to U.S. firms, request firms seeking USG advocacy support to complete the questionnaire. The information derived from a completed questionnaire is critical in helping the Advocacy Center determine whether it is in the U.S. national interest to advocate on a specific transaction.

Affected Public: Business or other for-profit organization.

Frequency: On occasion.

Respondent's Obligation: Required to obtain or retain a benefit, voluntary.

OMB Desk Officer: David Rostker, (202) 395-3897.

Copies of the above information collection proposal can be obtained by writing Diana Hynek, Departmental Paperwork Clearance Officer, Department of Commerce, Room 6625, 14th & Constitution Avenue, NW., Washington, DC 20230; E-mail: dHynek@doc.gov.

Written comments and recommendations for the proposed information collection should be sent to David Rostker, OMB Desk Officer, at David_Rostker@omb.eop.gov or fax (202) 395-7285, within 30 days of the publication of this notice in the Federal Register.

Dated: June 29, 2006.
Gwellnar Banks,
Management Analyst, Office of the Chief Information Officer.

[FR Doc. E6-10497 Filed 7-5-06; 8:45 am]

BILLING CODE 3510-FP-P